CONSUMER PRODUCT SAFETY COMMISSION

Sunshine Act Meeting

AGENCY: U.S. Consumer Product Safety Commission.

TIME AND DATE: 10:00 a.m., Tuesday, October 23, 2001.

Location: Room 420, East West Towers, 4330 East West Highway, Bethesda, Maryland.

STATUS: Closed to the Public.

Matter to be Considered:

Enforcement Matter OS# 4312: The Commission will be brief on issues related to enforcement matter OS# 4312.

For a recorded message containing the latest agenda information, call (301) 504-0709.

CONTACT PERSON FOR ADDITIONAL INFORMATION: Todd A. Stevenson, Office of the Secretary, 4330 East West Highway, Bethesda, MD 20207 (301) 504-0800.

Dated: October 19, 2001.
Todd A. Stevenson,
Acting Secretary.

[FR Doc. 01-26820 Filed 10-19-01; 3:14 pm]

BILLING CODE 6355-01-M